TENNESSEE VALLEY AUTHORITY

Environmental Impact Statement—Guntersville Reservoir Land Management Plan, Jackson and Marshall Counties, Alabama; Marion County, TN

AGENCY: Tennessee Valley Authority (TVA).

ACTION: Notice of intent.

SUMMARY: This notice is provided in accordance with the Council on Environmental Quality's regulations (40 CFR parts 1500 to 1508) and TVA's procedures implementing the National Environmental Policy Act. TVA will prepare an Environmental Impact Statement (EIS) on alternatives for management of Guntersville Reservoir project lands in Jackson and Marshall Counties in Alabama and Marion County in Tennessee.

DATES: Comments on the scope of the EIS should be received on, or before January 31, 2001.

ADDRESSES: Written comments should be sent to Jon M. Loney, Manager, NEPA Administration, Environmental Policy and Planning, Tennessee Valley Authority, 400 West Summit Hill Drive, Knoxville, Tennessee 37902-1499.

FOR FURTHER INFORMATION CONTACT: Harold M. Draper, NEPA Specialist, Environmental Policy and Planning, Tennessee Valley Authority, 400 West Summit Hill Drive, WT 8C, Knoxville, Tennessee 37902-1499; telephone (865) 632-6889, or e-mail hmdraper@tva.gov.

SUPPLEMENTARY INFORMATION:

Background

Guntersville Reservoir is the second largest of 23 multipurpose reservoirs operated by TVA for navigation, flood control, power production, recreation, and other uses. Located on the Tennessee River, the reservoir is 76 miles long and extends through parts of three counties in Alabama and Tennessee. TVA originally acquired 109,671 acres for reservoir construction. Of that, 56,300 acres are covered by water during normal summer pool. Subsequent transfers of land by TVA for economic, industrial, residential, or public recreation development have resulted in a current balance of 38,837 acres of TVA land on Guntersville Reservoir. TVA is considering updating a 1982 land allocation plan and allocating additional lands that were not considered in the 1982 plan. These additional lands are generally narrow shoreline strips, but also include the 1300-acre Murphy Hill Generating Plant site, where an electric power plant was never built. Because the 1982 plan does not reflect current demands for land, TVA is proposing to update the plan to reflect community needs and current TVA policies.

TVA develops reservoir land management plans to help in the management of reservoir properties in its custody. These plans allocate lands to various categories of uses, and are then used to guide the types of activities that will be considered on each tract of land. By providing a clear statement of how TVA intends to manage land and by identifying land for specific uses, TVA hopes to balance conflicting uses and facilitate decision making for use of its land. Each plan is submitted for approval by the TVA Board of Directors and adopted as policy to provide for long-term land stewardship and accomplishment of TVA responsibilities under the TVA Act of 1933.

In developing the Guntersville Reservoir Land Management Plan, it is anticipated that lands currently committed to a specific use would be allocated to that current use unless there is an overriding need to change. Commitments include transfers, easements, leases, licenses, contracts, utilities, outstanding land rights, or developed recreation areas. All lands under TVA control would be allocated in the planning process. At this time, TVA anticipates that two alternatives would be analyzed in the EIS. Other alternatives may be developed in response to public or agency comments. Under the No Action alternative, TVA would continue to rely on its existing 1982 Guntersville Reservoir Land Management Plan. This plan allocates land into 16 categories, including natural areas, forest and wildlife management, recreation, and industrial sites.

A second alternative would allocate reservoir lands into seven land use zones. It is anticipated that a sizable portion of these lands would be allocated to natural resource conservation and sensitive resource protection categories. However, in order to grandfather existing uses and to accommodate future development, smaller acreages would also be allocated to industrial and commercial development, recreation, and residential access.

This EIS will tier from TVA's Final EIS, Shoreline Management Initiative: An Assessment of Residential Shoreline Development Impacts in the Tennessee Valley (November 1998). That EIS evaluated alternative policies for managing residential uses along TVA's reservoir system, including Guntersville Reservoir.

Scoping

TVA held meetings to inform the public of the land allocation plan update and to solicit input in March 20, 2000 in South Pittsburg, Tennessee; March 21, 2000 in Scottsboro, Alabama; and March 23, 2000 in Guntersville, Alabama. These meetings were attended by 112 people. In addition, written comments were invited through a news release, newspaper notices, and a web-site notice. Subsequent to the scoping meetings, TVA determined that the development of an EIS would allow a better understanding of the impacts of the alternatives. Accordingly, this notice publishes TVA's intent to prepare an EIS. Based on the results of the previous scoping, TVA anticipates that the EIS will include discussions of the potential effects of alternatives on the following resource areas: aquatic ecology, water quality, wetlands, terrestrial ecology, cultural resources, noise, recreation, visual resources, threatened and endangered species, and navigation. Other issues which may be discussed, depending on the potential impacts of the alternatives, include floodplains, prime farmland, and air quality.

Since three meetings have already been conducted, TVA does not plan to hold additional meetings for scoping. However, written comments on the scope of issues to be addressed in the EIS are still requested. The participation of affected Federal, state, and local agencies and Indian tribes, as well as other interested persons is invited. Further, pursuant to the National Historic Preservation Act, TVA is interested in receiving comments on the potential of the proposed land allocation plan to affect historic properties. Written comments on the scope of the EIS should be received on, or before January 31, 2001. Following publication of the draft EIS, public comments on the draft plan will be solicited.

Dated: December 4, 2000.
Kathryn J. Jackson,
Executive Vice President, River System Operations & Environment.

[FR Doc. 00-32324 Filed 12-19-00; 8:45 am]

BILLING CODE 8120-08-U